DEPARTMENT OF TRANSPORTATION

Coast Guard

33 CFR Part 165

[CGD09-02-501]

Safety Zone: Captain of the Port Milwaukee Zone

AGENCY: Coast Guard, DOT.

ACTION: Notice of implementation of regulation.

SUMMARY: The Coast Guard is implementing safety zones for annual fireworks displays in the Captain of the Port Milwaukee Zone during August 2002. This action is necessary to provide for the safety of life and property on navigable waters during these events. These zones will restrict vessel traffic from a portion of the Captain of the Port Milwaukee Zone.

DATES: The safety zone for the African World Festival—Milwaukee, WI (§ 165.909(a)(6)), will be enforced on August 2, 2002, from 8:50 p.m. until 9:30 p.m., but in the event of inclement weather on August 2, 2002, the safety zone will be enforced from 8:50 p.m. until 9:30 p.m. on August 3, 2002, instead. The safety zone for the Sturgeon Bay Venetian Night Fireworks (§ 165.909(a)(26)), will be enforced on August 3, 2002 from 9:20 a.m. until 10:10 p.m. The safety zone for the Menominee Waterfront Festival (§ 165.909(a)(24)), will be enforced on August 3, 2002 from 9:20 p.m. until 10:10 p.m. The safety zone for the Algoma Shanty Days Fireworks (§ 165.909(a)(26)), will be enforced on August 11, 2002, from 9:20 p.m. until 10:10 p.m. The safety zone for the Irish Fest Fireworks—Milwaukee, WI (§ 165.909(a)(7)), will be enforced on August 15 through 18, 2002, from 9:25 p.m. until 10 p.m. The safety zone for the Sister Bay Marinafest—Sister Bay Fireworks (§ 165.909(a)(27)), will be enforced on August 31, 2002, from 8 p.m. until 10 p.m.

FOR FURTHER INFORMATION CONTACT: Marine Science Technician Chief Dave McClintock, U.S. Coast Guard Marine Safety Office Milwaukee, (414) 747-7155.

SUPPLEMENTARY INFORMATION: The Coast Guard is implementing the permanent safety zones in 33 CFR 165.909(a)(6)(7)(24)-(27) (67 FR 44560, July 3, 2002), for fireworks displays in the Captain of the Port Milwaukee Zone during August 2002. In chronological order, the following safety zones are in effect for fireworks displays occurring in the month of August 2002:

African World Festival—Milwaukee, WI. This safety zone will be enforced on August 2, 2002, from 8:50 p.m. until 9:30 p.m. In the event of inclement weather on August 2, 2002, the safety zone will be enforced from 8:50 p.m. until 9:30 p.m. on August 3, 2002.

Sturgeon Bay Venetian Night Fireworks. This safety zone will be enforced on August 3, 2002 from 9:20 a.m. until 10:10 p.m.

Menominee Waterfront Festival. This safety zone will be enforced on August 3, 2002 from 9:20 p.m. until 10:10 p.m.

Algoma Shanty Days Fireworks. This safety zone will be enforced on August 11, 2002, from 9:20 p.m. until 10:10 p.m. If the secondary location is used it will be during the same times as the primary location.

Irishfest Fireworks—Milwaukee, WI. This safety zone will be enforced on August 15 through 18, 2002, from 9:25 p.m. until 10 p.m.

Sister Bay Marinafest—Sister Bay. This safety zone will be enforced on August 31, 2002, from 8 p.m. until 10 p.m.

In order to ensure the safety of spectators and transiting vessels, this safety zone will be in effect for the duration of the event. Vessels may not enter the safety zone without permission from Captain of the Port Milwaukee Zone. Requests to transit the safety zone must be made in advance by contacting the person listed in FOR FURTHER INFORMATION CONTACT and must be approved by the Captain of the Port Milwaukee before transits will be authorized. Spectator vessels may anchor outside the safety zone but are cautioned not to block a navigable channel.

Dated: July 29, 2002.
V. J. Kammer,
Lieutenant Commander, U.S. Coast Guard, Acting Captain of the Port Milwaukee.

[FR Doc. 02-19849 Filed 8-6-02; 8:45 am]

BILLING CODE 4910-15-P